DEPARTMENT OF THE INTERIOR

Office of the Secretary

[XXXD4523WT, DS61200000, DWT000000.000000, DP61201]

Draft Outline for the First National Nature Assessment

AGENCY: Office of Policy Analysis, Interior.

ACTION: Annotated outline for the first National Nature Assessment, request for public comment.

SUMMARY: The U.S. Global Change Research Program seeks public comment on the proposed themes and topics of the first National Nature Assessment as indicated by the chapter annotated outlines linked here. Based on input received in response to this notice, chapter author teams will develop their draft chapters.

DATES: Comments must be submitted by 11:59 p.m. on November 4, 2024.

ADDRESSES: Comments from the public will be accepted electronically via https://review.globalchange.gov/. Instructions for submitting comments are available on the website. Submitters may enter text or upload files in response to this notice.

FOR FURTHER INFORMATION CONTACT: Tessa Francis, (202) 419-3498, tfrancis@usgcrp.gov, U.S. Global Change Research Program.

SUPPLEMENTARY INFORMATION: The U.S. Global Change Research Program (USGCRP) was created by Congress in 1990 to “assist the Nation and the world to understand, assess, predict, and respond to human-induced and natural processes of global change.” USGCRP comprises 15 Federal agencies that work together to carry out its legislative mandate. USGCRP is conducting the first National Nature Assessment (NNA1) to assess the condition of nature as an aspect of global change.

The scope of NNA1 is to assess the status, observed trends, and future projections of America's lands, waters, wildlife, biodiversity, and ecosystems and the benefits they provide, including connections to the economy, public health, equity, climate mitigation and adaptation, and national security.

Background information, additional details, and instructions for submitting comments can be found at https://www.globalchange.gov/notices. Responses to this request for comment can be entered via that website.

The USGCRP seeks public comment on the annotated outlines of each chapter of the NNA1, in particular on the scope and framing of chapter's proposed topic areas. Input received on proposed themes within each chapter's annotated outline will be used by chapter author teams to develop their draft chapters.

Authors of each NNA1 chapter will develop chapter content structured around the topic areas proposed in the annotated outlines. The outlines highlight what nature provides to us in terms of its inherent worth, our well-being, economic value, and more, while looking ahead to understand how these benefits might change in the future. Because chapter 1 will provide an overview summary of the final report, chapter 1 does not have an annotated outline currently.

Chapter titles reflect the target topics for the chapters. Final titles for the chapter may evolve as authors assess published literature.

1. Overview

2. Nature and Equity in the U.S.

3. Bright Spots in Nature in the U.S.

4. Status, Trends, and Future Projections of Nature in the U.S.

5. Status, Trends, and Future Projections of Drivers of Change in Nature in the U.S.

6. Nature and Cultural Heritage in the U.S.

7. Nature and the Economy in the U.S.

8. Nature and Human Health and Well-Being in the U.S.

9. Nature and Risk, Resilience, and Security in the U.S.

10. Nature and Climate Change in the U.S.

11. Opportunities for Nature in the U.S.

12. Frameworks and Approaches for Assessing Nature in the U.S.

As noted in the November 2023 notice (88 FR 80747; https://www.federalregister.gov/documents/2023/11/20/2023-25573/request-for-public-nominations-for-authors-and-scientifictechnical-inputs-for-the-first-national), public engagement efforts by the author teams will be undertaken during the comment period announced in this notice.

Chapter authors will hold virtual public engagement workshops to solicit public feedback on a chapter's annotated outlines. The schedule for these workshops and registration opportunities will be posted on https://www.globalchange.gov/our-work/national-nature-assessment and announced in the USGCRP newsletter.

Responses: Response to this request for comment is voluntary. Respondents need not comment on all topics. Before including your address, phone number, email address, or other personal identifying information in your written comments, you should be aware that your entire comment—including your personal identifying information—may be made publicly available at any time. While you can ask us in your comment to withhold your personal identifying information from public review, we cannot guarantee that we will be able to do so.

Responses may be used by the U.S. Government for program planning on a non-attribution basis. The U.S. Department of the Interior requests that neither business proprietary information nor third-party copyrighted information be submitted in response to this request for comment. Please note that the U.S. Government will not pay for response preparation or for the use of any information contained in the response.

Jacob Malcom,
Director, Office of Policy Analysis, Office of Policy, Management, and Budget.

[FR Doc. 2024-21558 Filed 9-17-24; 4:15 pm]

BILLING CODE 4334-63-P